NUCLEAR REGULATORY COMMISSION

10 CFR Part 72

[NRC-2013-0271]

RIN 3150-AJ31

List of Approved Spent Fuel Storage Casks: Transnuclear, Inc. Standardized Advanced NUHOMS® Horizontal Modular Storage System; Amendment No. 3

AGENCY: Nuclear Regulatory Commission.

ACTION: Direct Final Rule; Withdrawal.

SUMMARY: The U.S. Nuclear Regulatory Commission (NRC) is withdrawing a direct final rule that would have revised its spent fuel storage regulations to include Amendment No. 3 to Certificate of Compliance (CoC) No. 1029, Transnuclear, Inc. Standardized Advanced NUHOMS® Horizontal Modular Storage System listing within the “List of approved spent fuel storage casks.” The NRC is taking this action because it has received at least one significant adverse comment in response to a companion proposed rule that was concurrently published with the direct final rule.

DATES: Effective June 25, 2014, the NRC withdraws the direct final rule published at 79 FR 21121 on April 15, 2014.

ADDRESSES: Please refer to Docket ID NRC-2013-0271 when contacting the NRC about the availability of information for this action. You may access publicly-available information related to this action by any of the following methods:

• Federal Rulemaking Web site: Go to http://www.regulations.gov and search for Docket ID NRC-2013-0271. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Naiem S. Tanious, Office of Federal and State Materials and Environmental Programs, U.S. Nuclear Regulatory Commission, Washington, DC 20555; telephone: 301-415-6103, email: Naiem.Tanious@nrc.gov.

SUPPLEMENTARY INFORMATION: On April 15, 2014 (79 FR 21121), the NRC published in the Federal Register a direct final rule amending its regulations in part 72 of Title 10 of the Code of Federal Regulations to include Amendment No. 3 to CoC No. 1029, Transnuclear, Inc. Standardized Advanced NUHOMS® Horizontal Modular Storage System listing within the “List of approved spent fuel storage casks.” The direct final rule was to become effective on June 30, 2014. The NRC also concurrently published a companion proposed rule on April 15, 2014 (79 FR 21156).

In the April 15, 2014, proposed rule, the NRC stated that if any significant adverse comments were received, a document that withdraws the direct final rule would be published in the Federal Register. As a result, the direct final rule would not take effect. The NRC received 12 comments from private citizens and one comment letter from two attorneys representing 20 environmental organizations and individuals. The NRC also received one comment from a private citizen after the public comment period ended. The public comments are available at www.regulations.gov by searching on Docket ID NRC-2013-0271. The NRC determined that at least one of the comments is significant and adverse. The comment, submitted by two attorneys on behalf of 20 environmental organizations and individuals, raises a concern that the direct final rule approves “a significant and unprecedented change to the permissible uses of the 32PTH2 DSC: the transportation of high burnup fuel.” Although this amendment does not approve the transportation of high burnup fuel, in this instance the NRC considers this comment to be a significant adverse comment as defined in Section I, Procedural Background, of the direct final rule because the comment raises an issue serious enough to warrant a substantive response to clarify or complete the record. Therefore, the NRC is withdrawing the direct final rule.

As stated in the April 15, 2014, proposed rule, the NRC will address the comments in a subsequent final rule. The NRC will not initiate a second comment period on this action.

Dated at Rockville, Maryland, this 16th day of June, 2014.
For the Nuclear Regulatory Commission.
Mark A. Satorius,
Executive Director for Operations.

[FR Doc. 2014-14867 Filed 6-24-14; 8:45 am]

BILLING CODE 7590-01-P